COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product to the Procurement List that will be furnished by nonprofit agencies employing persons who are blind or have other severe disabilities, and deletes products and services previously furnished by such agencies.

DATES: Comments must be received on or before: March 31, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product listed below from nonprofit agencies employing persons who are blind or have other severe disabilities.

The following product is proposed for addition to the Procurement List for production by the nonprofit agencies listed:

Product

NSN—Product Name: 6550-00-NIB-0023—Test Cup, Drug Detection, Round, 2 ⅞″ D x 3 ½″ H, 13-card dipcard

Mandatory Source of Supply: Tarrant County Association for the Blind, Fort Worth, TX

Contracting Activity: Defense Logistics Agency, DLA Troop Support

Deletions

The following products and services are proposed for deletion from the Procurement List:

Products

NSNs—Product Names:

8010-00-616-9143—Enamel, Lacquer

8010-00-910-8154—Enamel, Lacquer

8010-01-167-1139—Enamel, Lacquer

Mandatory Source of Supply: The Lighthouse for the Blind, St. Louis, MO

Contracting Activity: FAS Heartland Regional Administrato, Kansas City, MO

NSN—Product Name:

7930-01-512-7171—Disinfectant, Deodorizer, Neutral, Biobased, Floral/Citrus Fragrance, 1 Gal

Mandatory Source of Supply: The Lighthouse for the Blind, St. Louis, MO

Contracting Activity: GSA/FSS Greater Southwest Acquisiti, Fort Worth, TX

NSNs—Product Names:

7520-01-542-5941—Pen, Ball Point, Econogard, Retractable, Cushion Grip, White Barrel, Black Ink, Medium Point

7520-01-542-5953—Pen, Ball Point, Econogard, Retractable, Cushion Grip, White Barrel, Black Ink, Fine Point

Mandatory Source of Supply: Industries of the Blind, Inc., Greensboro, NC

Contracting Activity: GSA/FAS Admin Svcs Acquisition Br (2, New York, NY)

Service(s)

Service Type: Shelf Stocking & Custodial

Mandatory for: Fort Monmouth, Fort Monmouth, NJ

Service Type: CSS/Custodial/Warehousing, Shelf Stocking & Custodial, Warehousing

Mandatory for: Buckley AFB, 365 N Telluride, Aurora, CO

Mandatory Source of Supply: CW Resources, Inc., New Britain, CT

Contracting Activity: Defense Commissary Agency

Service Type: Administrative Services for Catalog Distribution

Mandatory for: Defense Reutilization and Marketing Service, Battle Creek, MI

Mandatory Source of Supply: Packham Vocational Industries, Inc., Lansing, MI

Contracting Activity: Defense Logistics Agency, DLA Disposition Services

Service Type: Furniture Rehabilitation

Mandatory for: Parris Island USMC Depot, USMC Recruit Depot, Parris Island, SC

Mandatory Source of Supply: Beaufort Vocational Rehabilitation Center, Beaufort, SC

Contracting Activity: Dept of the Navy, Commanding General

Service Type: Janitorial/Custodial

Mandatory for: Puget Sound Naval Shipyard: Equipment Maintenance Shops, Bremerton, WA

Mandatory Source of Supply: Peninsula Services, Bremerton, WA

Mandatory for: Fort Story: Buildings P-102, T-605, T-750, T-751, T-752, T-754, T-755, T-756, T-757, T-761, T-766, T-767, T-772, Fort Story, VA

Mandatory Source of Supply: Didlake, Inc., Manassas, VA

Mandatory for: Naval & Marine Corps Reserve Center: Training Building, Portland, OR

Contracting Activity: Dept of the Navy, U.S. Fleet Forces Command

Service Type: Grounds Maintenance

Mandatory for: Loyalhanna & Conemaugh Dam: 400 Loyalhanna Dam Road, Saltsburgh, PA

Mandatory Source of Supply: The Burnley Workshop of the Poconos, Inc., Stroudsburg, PA

Contracting Activity: Dept of the Army, W6QM MICC CTR-FT DIX (RC)

Patricia Briscoe,
Deputy Director, Business Operations (Pricing and Information Management).

[FR Doc. 2019-03672 Filed 2-28-19; 8:45 am]

BILLING CODE 6353-01-P